DEPARTMENT OF ENERGY

Federal Energy Regulatory Commission

[Project No. 1494-438]

Grand River Dam Authority; Notice of Modification of Procedural Schedule

Take notice that the schedule for processing the following hydroelectric application has been modified.

a. Type of Application: Notice of Intent to File License Application for a New License and Commencing Pre-filing Process.

b. Project No.: 1494-438.

c. Date Filed: February 1, 2017.

d. Applicant: Grand River Dam Authority (GRDA).

e. Name of Project: Pensacola Hydroelectric Project.

f. Location: The project is located on the Grand (Neosho) River in Craig, Delaware, Mayes, and Ottawa Counties, Oklahoma. The project occupies federal land.¹

¹ In a filing of April 11, 2018, the Bureau of Indian Affairs provided documentation that lands held in trust by the BIA for the benefit of one or more federally-recognized Indian tribes occur within the existing Pensacola Project boundary. The total acreage of federal lands within the project boundary is unknown at this time.

g. Filed Pursuant to: 18 CFR part 5 of the Commission's Regulations.

h. Applicant Contact: Dr. Darrell Townsend, Assistant General Manager, GRDA, 420 Highway 28, Langley, OK 74359-0070; (918) 256-0616 or dtownsend@grda.com.

i. FERC Contact: Rachel McNamara at (202) 502-8340 or rachel.mcnamara@ferc.gov.

j. Procedural Schedule: The Commission's August 10, 2018, letter established August 21, 2018, as the new date for the additional Tribal Consultation meeting. The revised deadline for filing the Revised Proposed Study Plan is now September 24, 2018, and the revised deadline for filing comments on the Revised Proposed Study Plan is now October 24, 2018. As such, the application will be processed according to the following revised schedule. Revisions to the schedule may be made as appropriate. If a date falls on a weekend or holiday, the due date will be the following business day.

Milestone | Target date
File Revised Proposed Study Plan | September 24, 2018.
File Comments on Revised Proposed Study Plan | October 24, 2018.
Commission Issues Study Plan Determination | November 8, 2018.
Notice of Formal Study Dispute (if necessary) | November 28, 2018.
Commission Issues Study Dispute Determination (if necessary) | February 6, 2019.

Dated: August 10, 2018.
Nathaniel J. Davis, Sr.,
Deputy Secretary.

[FR Doc. 2018-17655 Filed 8-15-18; 8:45 am]

BILLING CODE 6717-01-P